DEPARTMENT OF THE INTERIOR

Bureau of Land Management

[LLWO200000.13X.L1010.LXSICLMT0000.PH]

Notice of Availability of the Colorado Plateau Rapid Ecoregional Assessment

AGENCY: Bureau of Land Management, Interior.

ACTION: Notice of availability.

SUMMARY: This notice announces the availability of the Bureau of Land Management's (BLM) first Rapid Ecoregional Assessment (REA) covering land in four western states. The Colorado Plateau REA includes parts of Arizona, Colorado, New Mexico and Utah. It has an area of 32,387 square miles and includes all or portions of 16 BLM field offices.

ADDRESSES: The REA, and its associated data, are available through the BLM Web site at: http://www.blm.gov/wo/st/en/prog/more/Landscape_Approach.html.

FOR FURTHER INFORMATION CONTACT: Karen Prentice, Natural Resource Specialist, 202-912-7223, kprentic@blm.gov. Persons who use a telecommunications device for the deaf (TDD) may call the Federal Information Relay Service (FIRS) at 1-800-877-8339 to contact the above individuals during business hours. The FIRS is available 24 hours a day, 7 days a week, to leave a message or question with the above individual. You will receive a reply during normal business hours.

SUPPLEMENTARY INFORMATION: This notice announces the availability of the first REA issued by the BLM covering land in four western states. Although the BLM is publishing this Notice for the first REA, subsequent REAs will be made available on the Web site listed in the ADDRESSES section without publication in the Federal Register. REAs assemble information that can be used to guide public lands management. They use existing scientific information to identify resource conditions and trends within an ecoregion, a large geographic area that shares similar characteristics. This innovative large-scale approach is designed to help identify patterns of environmental change that may not be evident when managing smaller land areas. Additional REAs covering the Central Basin and Range, Mojave Basin and Range, Northwestern Great Plains/Northwestern Glaciated Plains, Middle Rockies, Sonoran Desert, and the Seward Peninsula-Nulato Hills-Kotzebue Lowlands ecoregions are in preparation and will be made publicly available on the BLM Web site as they are completed. In 2013, the BLM plans to complete REAs for the Northern Basin and Range, Snake River Plain, Wyoming Basin, and Yukon River Lowlands/Kuskokwim Mountains/Lime Hills, all of which began in 2011. The BLM is conducting pre-assessment work for potential REAs in the Beaufort Coastal Plain, Brooks Hills, Chihuahuan Desert, Southern Great Plains (3 ecoregions), and Madrean Archipelago. Each REA highlights and maps areas of both high and low ecological values. Lands with relatively high ecological values can be managed to ensure that their wildlife habitat is properly conserved. Lands with relatively low ecological value could be best-suited for siting future development, such as transmission lines. Each REA also gauges the potential risks to these lands from four key environmental “change agents:” Climate change, wildfires, invasive species, and development. REAs use information about the natural resources of all the lands within an ecoregion. In this way, the REAs can provide a foundation for formulating coordinated strategies that can respond more effectively to climate change, wildfire, and other environmental challenges that transcend land management boundaries. The BLM prepared its REAs in cooperation with other Federal and state land management agencies.

Procedural Requirements: The REAs provide science-based information and tools for land managers and stakeholders to consider in resource planning and decision-making processes, such as Resource Management Plans and Environmental Impact Statements. Consequently, the REAs do not contain findings and recommendations, nor do they make management decisions or allocate resource uses. The issuance of REAs by the BLM does not constitute a rulemaking.

Edwin Roberson,
Assistant Director, Bureau of Land Management.

[FR Doc. 2013-04343 Filed 2-26-13; 8:45 am]

BILLING CODE 4310-84-P